DEPARTMENT OF HEALTH AND HUMAN SERVICES

National Institutes of Health

National Institute of Environmental Health Sciences; Amended Notice of Meeting

Notice is hereby given of a change in the meeting of the National Institute of Environmental Health Sciences Special Emphasis Panel, March 3, 2003, 3 p.m. to March 3, 2003, 4 p.m., which was published in the Federal Register on January 24, 2003, 68 FR 3542.

The starting time of this meeting has changed from 3 p.m., which was previously advertised, to 2:30 p.m. The meeting is closed to the public

Dated: February 12, 2003.
LaVerne Y. Stringfield,
Director, Office of Federal Advisory Committee Policy.

[FR Doc. 03-4212 Filed 2-21-03; 8:45 am]

BILLING CODE 4140-01-M